BROADCASTING BOARD OF GOVERNORS

Sunshine Act Meetings

TIME AND DATE: Wednesday, June 5, 2019, 10:45 a.m. EDT.

PLACE: Cohen Building, Room 3321, 330 Independence Ave. SW, Washington, DC 20237.

STATUS: Open to the public.

MATTERS TO BE CONSIDERED: The U.S. Agency for Global Media's (USAGM) Board of Governors (Board) will be meeting at the time and location listed above. The Board will vote on a consent agenda consisting of the minutes of its March 6, 2019 meeting, USAGM Social Media Policy, USAGM Smith-Mundt Guidelines, a resolution honoring the 65th anniversary of Radio Free Europe/Radio Liberty's Belarus Service, and a resolution honoring the 15th anniversary of the Middle East Broadcasting Networks' Alhurra Television and Alhurra-Iraq Television. The Board will receive a report from the USAGM's Chief Executive Officer and Director.

This meeting will be available for public observation via streamed webcast, both live and on-demand, on the agency's public website at www.usagm.gov. Information regarding this meeting, including any updates or adjustments to its starting time, can also be found on the agency's public website.

The public may also attend this meeting in person at the address listed above as seating capacity permits. Members of the public seeking to attend the meeting in person must register at https://usagmboardmeetingjune2019.eventbrite.com by 12:00 p.m. (ET) on June 4. For more information, please contact USAGM Public Affairs at (202) 203-4400 or by email at pubaff@usagm.gov.

CONTACT PERSON FOR MORE INFORMATION: Persons interested in obtaining more information should contact Oanh Tran at (202) 203-4545.

Oanh Tran,
Managing Director.

[FR Doc. 2019-11553 Filed 5-30-19; 11:15 am]

BILLING CODE 8610-01-P